DEPARTMENT OF JUSTICE

Notice of Lodging of First Amended Consent Decree Under the Clean Water Act

Under 28 CFR 50.7 notice is hereby given that on September 27, 2001, a proposed First Amended Consent Decree (“Amended Consent Decree”) in United States of America and State of Indiana v. City of New Albany, Civil No. NA-90-46-C-B/G was lodged with the United States District Court for the Southern District of Indiana, New Albany Division.

In this action, the United States sought enforcement of a Consent Decree entered into in 1993 for Clean Water Act violations at New Albany's wastewater treatment plant. The First Amended Consent Decree resolves claims of the United States concerning New Albany's wastewater treatment facility and sewer collection system for violations of the 1993 Consent Decree and the Clean Water Act, 33 U.S.C. 1251, et seq., including, inter alia, bypasses and sanitary sewer overflow events. Pursuant to the Amended Consent Decree, New Albany will, among other requirements, develop and implement a capacity assurance plan to address the bypasses and sanitary sewer overflows at its wastewater treatment plant and in the sewer collection system. Also, under the Amended Consent Decree, New Albany will pay $180,000 in civil penalties for violations of the 1993 Consent Decree.

The Department of Justice will receive for a period of thirty (30) days from the date of this publication comments relating to the Amended Consent Decree. Comments should be addressed to the Assistant Attorney General, Environment and Natural Resources Division, P.O. Box 7611, U.S. Department of Justice, Washington, DC 20044-7611, and should refer to United States and State of Indiana v. City of New Albany, Civil Cause No. NA-90-46-C-B/G, D.J. Ref. 90-5-1-1-3448/A.

The Amended Consent Decree may be examined at the Office of the United States Attorney, 10 West Market Street, Suite 2100, Indianapolis, Indiana 46204-3048 (contact Assistant United States Attorney Thomas Kieper at (317) 229-2400), and at U.S. EPA Region 5, 14th Floor, 77 West Jackson Boulevard, Chicago, Illinois 60604-3590 (contact Deborah A. Carlson at (312) 353-6121). A copy of the Amended Consent Decree may also be obtained by mail from the Consent Decree Library, P.O. Box 7611, U.S. Department of Justice, Washington, DC 20044-7611. In requesting a copy, please enclose a check in the amount of $15.00 ($.25 cents per page reproduction cost) payable to the Consent Decree Library.

W. Benjamin Fisherow,
Deputy Chief, Environmental Enforcement Section, Environment and Natural Resources Division.

[FR Doc. 01-25875 Filed 10-12-01; 8:45 am]

BILLING CODE 4410-15-M